ENVIRONMENTAL PROTECTION AGENCY

40 CFR Part 52

[R06-OAR-2004-TX-0002; FRL-7830-9]

Approval and Promulgation of Air Quality Implementation Plans; Texas; Memorandum of Agreement Between Texas Commission on Environmental Quality and the North Central Texas Council of Governments Providing Emissions Offsets to Dallas Fort Worth International Airport

AGENCY: Environmental Protection Agency (EPA).

ACTION: Proposed rule.

SUMMARY: EPA is proposing to approve a State Implementation Plan (SIP) revision submitted by the Texas Commission on Environmental Quality (TCEQ) on February 23, 2004. This revision concerns the Dallas/Fort Worth ozone nonattainment area. Specifically, EPA is proposing to approve the incorporation of a Memorandum of Agreement (MOA) between the TCEQ and the North Central Texas Council of Governments (NCTCOG) into the SIP. This MOA commits the NCTCOG to provide the Dallas-Fort Worth International Airport with emissions offsets in the amount of 0.18 tons per day (tpd) of nitrogen oxides (NOX) and 0.04 tpd of volatile organic compounds (VOCs) in 2007 and to adjust the modeled 2015 on-road emission estimates to reflect an increase of 1.17 tpd of NOX and 0.26 tpd of VOCs, which must be accommodated in future transportation conformity determinations. This action is necessary in order for the Federal Aviation Administration (FAA) to address requirements under the general conformity regulations.

DATES: Written comments should be received on or before November 29, 2004.

ADDRESSES: Comments may be mailed to Mr. Thomas Diggs, Chief, Air Planning Section (6PD-L), Environmental Protection Agency, 1445 Ross Avenue, Suite 1200, Dallas, Texas, 75202-2733. Comments may also be submitted electronically or through hand delivery/courier by following the detailed instructions in the ADDRESSES section of the direct final rule located in the rules section of this Federal Register.

FOR FURTHER INFORMATION CONTACT: Peggy Wade, Air Planning Section (6PD-L), Environmental Protection Agency, Region 6, 1445 Ross Avenue, Suite 700, Dallas, Texas 75202-2733, telephone (214) 665-7247; fax number 214-665-7263; e-mail address wade.peggy@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the rules section of this Federal Register.

Dated: October 19, 2004.
Richard E. Greene,
Regional Administrator, Region 6.

[FR Doc. 04-24128 Filed 10-28-04; 8:45 am]

BILLING CODE 6560-50-P